DEPARTMENT OF THE INTERIOR

Fish and Wildlife Service

[FWS-R8-ES-2014-N065: FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before May 19, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-793640

Applicant: Jerry J. Smith, San Jose, California.

The applicant requests a permit renewal to take (harass by survey, capture, handle, collect tissue samples and release) the tidewater goby (Eucyclogobius newberryi) in conjunction with surveys, research, and population monitoring activities in Marin, San Mateo, Santa Cruz, Monterey, and San Luis Obispo Counties, California, for the purpose of enhancing the species' survival.

Permit No. TE-233373

Applicant: MaryAnne Flett, Pt. Reyes Station, California.

The applicant requests an amendment to a permit to take (harass by survey) the California clapper rail (Rallus longirostris obsoletus) in conjunction with survey activities in Alameda, Contra Costa, Marin, Napa, San Francisco, San Mateo, Santa Clara, Solano, and Sonoma Counties, California, for the purpose of enhancing the species' survival.

Permit No. TE-30908B

Applicant: River Partners, Modesto, California.

The applicant requests a permit to take (survey, trap, capture, handle, tag, mark collect genetic material, and release) the riparian brush rabbit (Sylvilagus bachmani riparius), take (survey, capture, handle, mark, release, hold in captivity, and relocate) the riparian woodrat (San Joaquin Valley woodrat) (Neotoma fuscipes riparia), and take (nest monitor) the least Bell's vireo (Vireo bellii pusillus) in conjunction with survey, research, and population monitoring activities at the Dos Rios Ranch, Stanislaus County, California, for the purpose of enhancing the species' survival.

Permit No. TE-817400

Applicant: East Bay Regional Park District, Oakland, California.

The applicant requests a permit renewal to take (capture, mark, and release) the salt marsh harvest mouse (Reithrodontomys raviventris), take (capture, handle, and release) the California tiger salamander (central Distinct Population Segment (DPS)) (Ambystoma californiense), take (harass by survey, locate and monitor nests) the California least tern (Sternula antillarum browni) (Sterna a. b.), take (harass by survey, locate and monitor nests, and candle eggs) the California clapper rail (Rallus longirostris obsoletus); and take (capture, collect, and collect vouchers) the Conservancy fairy shrimp (Branchinecta conservatio), longhorn fairy shrimp (Branchinecta longiantenna), and vernal pool tadpole shrimp (Lepidurus packardi) in conjunction with surveys and population monitoring activities as specified in the previously issued permit in Alameda, Contra Costa, Marin, Napa, Sonoma, Solano, San Francisco, Santa Clara, San Mateo, San Joaquin, and Sacramento Counties, California, for the purpose of enhancing the species' survival.

Permit No. TE-30914B

Applicant: Rachel D. Wigginton, Davis, California.

The applicant requests a permit to take (harass by survey) the California clapper rail (Rallus longirostris obsoletus) and salt marsh harvest mouse (Reithrodontomys raviventris) in conjunction with survey activities during marsh plant and invertebrate research in Alameda, Contra Costa, Marin, and Santa Clara Counties, California, for the purpose of enhancing the species' survival.

Permit No. TE-126141

Applicant: Craig Stockwell, Fargo, North Dakota.

The applicant requests an amendment to a permit to take (trap, collect, mark, release, collect specimens, transport, and harass by observation) the Pahrump poolfish (Empetrichthys latos) in conjunction with scientific research activities in Clark and White Pine Counties, Nevada, and in facilities at North Dakota State University, Fargo, North Dakota, for the purpose of enhancing the species' survival.

Permit No. TE-237086

Applicant: Stillwater Sciences, Berkeley, California.

The applicant requests a permit renewal to take (harass by survey, capture, handle, and release) the California freshwater shrimp (Syncaris pacifica) in conjunction with surveys and demographic studies throughout the range of the species in California for the purpose of enhancing the species' survival.

Permit No. TE-198917

Applicant: Stillwater Sciences, McKinleyville, California.

The applicant requests a permit renewal to take (harass by survey, capture, handle, and release) the tidewater goby (Eucyclogobius newberryi) in conjunction with surveys and population monitoring activities throughout the range of the species in California for the purpose of enhancing the species' survival.

Permit No. TE-101154

Applicant: Douglas C. Rischbieter, Arnold, California.

The applicant requests a permit renewal to take (harass by survey, capture, handle, collect, and release) the tidewater goby (Eucyclogobius newberryi) in conjunction with surveys, genetic research, and population monitoring activities throughout the range of the species in California for the purpose of enhancing the species' survival.

Permit No. TE-31222B

Applicant: Rachel C. Gardiner, Sacramento, California.

The applicant requests a permit to take (harass by survey) the California clapper rail (Rallus longirostris obsoletus) in conjunction with survey activities in Sonoma and Marin Counties, California, for the purpose of enhancing the species' survival.

Permit No. TE-31221B

Applicant: Danielle A. Mullen, Encinitas, California.

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-075112

Applicant: Gregory K. Chatman, Ashton, Idaho.

The applicant requests a permit renewal to take (survey by pursuit) the Quino checkerspot butterfly (Euphydryas editha quino) in conjunction with survey activities throughout the range of each species in California for the purpose of enhancing the species' survival.

Permit No. TE-102310

Applicant: Mitchell C. Dallas, Morro Bay, California.

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), in conjunction with survey activities throughout the range of each species in California for the purpose of enhancing the species' survival.

Permit No. TE-081298

Applicant: Daniel H. Weinberg, Albany, California.

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), and take (capture, handle, and release) the California tiger salamander (Santa Barbara County DPS and Sonoma County DPS) (Ambystoma californiense) in conjunction with survey activities throughout the range of each species in California and Oregon for the purpose of enhancing the species' survival.

Permit No. TE-48210A

Applicant: Area West Environmental, Orangevale, California.

The applicant requests an amendment to a permit to take (harass by survey, capture, handle, conduct drift fence survey study, collect tissue samples, and release) the California tiger salamander (Santa Barbara County DPS and Sonoma County DPS) (Ambystoma californiense), and reduce and remove to possession (collect) the Orcuttia viscida (Sacramento Orcutt grass) in conjunction with surveys, research, population monitoring, and seed distribution study throughout the range of each species in California for the purpose of enhancing the species' survival.

Permit No. TE-217402-1

Applicant: Julie M. Love, Santa Barbara, California.

The applicant requests a permit renewal to take (harass by survey, capture, handle, release, measure and record morphological data, and photograph) the tidewater goby (Eucyclogobius newberryi) in conjunction with survey, population monitoring, and research activities throughout the range of the species in California for the purpose of enhancing the species' survival.

Permit No. TE-101151

Applicant: Eric A. Bailey, San Marcos, California.

The applicant requests an amendment to a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), in conjunction with survey activities throughout the range of each species in California for the purpose of enhancing the species' survival.

Permit No. TE-022181

Applicant: David J. Ezell, Hemet, California.

The applicant requests a permit renewal to take (survey by pursuit) the Quino checkerspot butterfly (Euphydryas editha quino) in conjunction with survey activities throughout the range of each species in California for the purpose of enhancing the species' survival.

Permit No. TE-827493

Applicant: Brian M. Leatherman, Yorba Linda, California

The applicant requests a permit renewal to take (harass by survey) the southwestern willow flycatcher (Empidonax traillii extimus), and take (locate and monitor nests and remove brown-headed cowbird eggs and chicks from parasitized nests) the least Bell's vireo (Vireo bellii pusillus) in conjunction with survey and population monitoring activities throughout the range of each species in California for the purpose of enhancing the species' survival.

Permit No. TE-796835

Applicant: Thomas E. Kucera, San Rafael, California.

The applicant requests a permit renewal to take (survey, capture, handle, mark, measure, and release) the salt marsh harvest mouse (Reithrodontomys raviventris), Fresno kangaroo rat (Dipodomys nitratoides exilis), giant kangaroo rat (Dipodomys ingens), and Tipton kangaroo rat (Dipodomys nitratoides nitratoides) in conjunction with survey and research activities throughout the range of each species in California for the purpose of enhancing the species' survival.

Permit No. TE-107075

Applicant: Steven D. Powell, San Pablo, California

The applicant requests a permit renewal to take (survey, capture, handle, and release) the salt marsh harvest mouse (Reithrodontomys raviventris) and the San Francisco garter snake (Thamnophis sirtalis tetrataenia), and take (capture, handle, release, and collect vouchers) the California tiger salamander (Santa Barbara County DPS and Sonoma County DPS) (Ambystoma californiense) in conjunction with survey activities throughout the range of each species in California for the purpose of enhancing the species' survival.

Permit No. TE-045937

Applicant: Edwin D. Grosholz, Davis, California.

The applicant requests an amendment to a permit to take (harass by survey) the California clapper rail (Rallus longirostris obsoletus) in conjunction with survey activities in Alameda County, California, for the purpose of enhancing the species' survival.

Permit No. TE-800291

Applicant: Anne Wallace, Nevada City, California.

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); take (capture, handle, and release) the California tiger salamander (Santa Barbara County DPS and Sonoma County DPS) (Ambystoma californiense); take (harass by survey and monitor nests) the California least tern (Sternula antillarum browni) (Sterna a. b.); and take (harass by survey) the California clapper rail (Rallus longirostris obsoletus) in conjunction with survey and population monitoring activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-08926 Filed 4-17-14; 8:45 am]

BILLING CODE 4310-55-P